DEPARTMENT OF ENERGY

Federal Energy Regulatory Commission

Combined Notice of Filings #1

April 13, 2010.

Take notice that the Commission received the following electric rate filings:

Docket Numbers: ER00-3240-018; ER01-1633-015; ER96-780-028.

Applicants: Oleander Power Project, L.P.; Southern Company—Florida LLC; Southern Company Services, Inc.

Description: Report of Non-Material Change in Status of Southern Company Services, Inc.

Filed Date: 04/12/2010.

Accession Number: 20100412-5280.

Comment Date: 5 p.m. Eastern Time on Monday, May 3, 2010.

Docket Numbers: ER09-1196-001.

Applicants: Lost Creek Wind, LLC.

Description: Quarterly Report of Lost Creek Wind, LLC.

Filed Date: 04/13/2010.

Accession Number: 20100413-5061.

Comment Date: 5 p.m. Eastern Time on Tuesday, May 4, 2010.

Docket Numbers: ER10-352-002.

Applicants: Southwest Power Pool, Inc.

Description: Southwest Power Pool submits letter requesting Commission to accept the amendments to their Open Access Transmission Tariff.

Filed Date: 04/12/2010.

Accession Number: 20100413-0202.

Comment Date: 5 p.m. Eastern Time on Monday, May 3, 2010.

Docket Numbers: ER10-616-001.

Applicants: Florida Power Corporation.

Description: Florida Power Corporation submits a compliance filing to correct a typographical error in Article 18 of the cost-based power sales agreement with Reedy Creek Improvement District.

Filed Date: 04/12/2010.

Accession Number: 20100413-0203.

Comment Date: 5 p.m. Eastern Time on Monday, May 3, 2010.

Docket Numbers: ER10-1038-000.

Applicants: LANXESS Energy LLC.

Description: Lanxess Energy, LLC submits Notice of Cancellation of Market-Based Rate Tariff, FERC Electric Tariff, Original Volume 1.

Filed Date: 04/12/2010.

Accession Number: 20100412-0205.

Comment Date: 5 p.m. Eastern Time on Monday, May 3, 2010.

Docket Numbers: ER10-1039-000.

Applicants: LANXESS Corporation.

Description: Lanxess Corporation submits Notice of Cancellation of Lanxess market-based rate tariff, FERC Electric Tariff, Original Volume 1.

Filed Date: 04/12/2010.

Accession Number: 20100412-0206.

Comment Date: 5 p.m. Eastern Time on Monday, May 3, 2010.

Docket Numbers: ER10-1040-000.

Applicants: Southern California Edison Company.

Description: Southern California Edison Company submits amended Large Generator Interconnection Agreement with Blythe Energy, LLC etc.

Filed Date: 04/12/2010.

Accession Number: 20100412-0207.

Comment Date: 5 p.m. Eastern Time on Monday, May 3, 2010.

Docket Numbers: ER10-1041-000.

Applicants: Horsehead Corporation.

Description: Horsehead Corporation submits tariff filing per 35.12: Horsehead Corporation Baseline Tariff to be effective 4/13/2010.

Filed Date: 04/12/2010.

Accession Number: 20100412-5165.

Comment Date: 5 p.m. Eastern Time on Monday, May 3, 2010.

Docket Numbers: ER10-1042-000.

Applicants: Northern Indiana Public Service Company.

Description: Northern Indiana Public Service Company submits tariff sheets re Interconnection Agreement with Wabash Valley Power Association, Inc designed as FERC Electric Rate Schedule 14, effective 5/1/10.

Filed Date: 04/12/2010.

Accession Number: 20100413-0201.

Comment Date: 5 p.m. Eastern Time on Monday, May 3, 2010.

Take notice that the Commission received the following electric reliability filings:

Docket Numbers: RR10-6-000.

Applicants: North American Electric Reliability Corporation.

Description: North American Electric Reliability Corporation Supplemental Information Regarding Texas Reliability Entity, Inc.

Filed Date: 04/12/2010.

Accession Number: 20100412-5124.

Comment Date: 5 p.m. Eastern Time on Monday, April 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-9040 Filed 4-19-10; 8:45 am]

BILLING CODE 6717-01-P